ENVIRONMENTAL PROTECTION AGENCY

40 CFR Part 52

[EPA-R09-OAR-2021-0638; FRL-9101-02-R9]

Clean Air Plans; Base Year Emissions Inventories for the 2015 Ozone Standards; Arizona; Phoenix-Mesa and Yuma Nonattainment Areas

AGENCY: Environmental Protection Agency (EPA).

ACTION: Final rule.

SUMMARY: The Environmental Protection Agency (EPA) is approving, under the Clean Air Act (CAA), revisions to the Arizona state implementation plan (SIP) concerning the base year emissions inventory requirements for the Phoenix-Mesa ozone nonattainment area (“Phoenix-Mesa”) and Yuma ozone nonattainment area (“Yuma”) for the 2015 ozone national ambient air quality standards (NAAQS).

DATES: This rule is effective May 5, 2022.

ADDRESSES: The EPA has established a docket for this action under Docket ID No. EPA-R09-OAR-2021-0638. All documents in the docket are listed on the https://www.regulations.gov website. Although listed in the index, some information is not publicly available, e.g., confidential business information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with disabilities who needs a reasonable accommodation at no cost to you, please contact the person identified in the FOR FURTHER INFORMATION CONTACT section.

FOR FURTHER INFORMATION CONTACT: Ben Leers, Air Planning Office (AIR-2), EPA Region IX, (415) 947-4279, leers.ben@epa.gov.

SUPPLEMENTARY INFORMATION: Throughout this document, “we,” “us,” and “our” refer to the EPA.

Table of Contents

I. Proposed Action

II. Public Comments and EPA Responses

III. EPA Action

IV. Statutory and Executive Order Reviews

I. Proposed Action

On July 8, 2020, the Arizona Department of Environmental Quality (ADEQ) submitted a revision to the Arizona SIP titled “Maricopa Association of Governments (MAG) 2020 Eight-Hour Ozone Plan” (“2020 Phoenix-Mesa SIP Submittal”). The 2020 Phoenix-Mesa SIP Submittal includes a 2017 baseline emissions inventory for Phoenix-Mesa developed by the Maricopa Association of Governments. On December 22, 2020, ADEQ submitted a revision to the Arizona SIP titled “Marginal Ozone Plan for the Yuma Nonattainment Area,” and on July 1, 2021, ADEQ provided a technical supplement to its December 22, 2020 SIP revision. ADEQ's December 22, 2020 SIP revision and July 1, 2021 technical supplement include a 2017 baseline emissions inventory for Yuma and are herein referred to collectively as the “2020 Yuma SIP Submittal.”

On October 22, 2021, the EPA proposed to approve the 2020 Phoenix-Mesa SIP Submittal and 2020 Yuma SIP Submittal as meeting the ozone-related baseline emissions inventory requirement for the Phoenix-Mesa and Yuma ozone nonattainment areas, respectively, for the 2015 ozone NAAQS.¹ Our October 22, 2021 proposed rule also discussed the following: Background on the 2015 ozone NAAQS; an overview of the baseline emissions inventory requirements for the 2015 ozone NAAQS under sections sections 172(c)(3) and 182(a)(1) of the CAA and under the EPA's implementing regulations for the 2015 ozone NAAQS at 40 CFR 51.1315; an overview of ADEQ's SIP revisions submitted to meet the ozone baseline emissions inventory requirement for Phoenix-Mesa and Yuma; a discussion of the public notice and hearing procedures conducted by ADEQ to meet the requirements of CAA sections 110(a)(1) and 110(l) and 40 CFR 51.102; and our evaluation of ADEQ's SIP submittals.

¹ 86 FR 58630.

II. Public Comments and EPA Responses

The EPA's proposed action provided a 30-day public comment period. During this period, we received no comments on our proposed rulemaking.

III. EPA Action

For the reasons described in our October 22, 2021 proposed action, we are taking final action to approve the 2020 Phoenix-Mesa SIP Submittal and 2020 Yuma SIP Submittal as meeting the ozone-related baseline emissions inventory requirement for the Phoenix-Mesa and Yuma ozone nonattainment areas for the 2015 ozone NAAQS. The emissions inventories in the 2020 Phoenix-Mesa SIP Submittal and 2020 Yuma SIP Submittal contain comprehensive, accurate, and current inventories of actual emissions for all relevant sources in accordance with CAA sections 172(c)(3) and 182(a).

IV. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. The Fort McDowell Yavapai Nation, the Gila River Indian Community of the Gila River Indian Reservation, the Tohono O'odham Nation of Arizona, and the Salt River Pima Maricopa Indian Community of the Salt River Reservation have areas of Indian country located within the Phoenix-Mesa nonattainment area for the 2015 ozone NAAQS. The Cocopah Tribe of Arizona and the Quechan Tribe of the Fort Yuma Indian Reservation have areas of Indian country located within the Yuma nonattainment area for the 2015 ozone NAAQS. In those areas of Indian country, this final rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 6, 2022. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: March 29, 2022.
Martha Guzman Aceves,
Regional Administrator, Region IX.

For the reasons stated in the preamble, the EPA amends chapter I, title 40 of the Code of Federal Regulations as follows:

PART 52—APPROVAL AND PROMULGATION OF IMPLEMENTATION PLANS

1. The authority citation for part 52 continues to read as follows:

Authority: 42 U.S.C. 7401, et seq.

Subpart D—Arizona

2. Section 52.120, paragraph (e), table 1 is amended:

a. Under the heading “Part D Elements and Plans for the Metropolitan Phoenix and Tucson Areas,” by adding entries for “SIP Revision: Marginal Ozone Plan for the Yuma Nonattainment Area (dated December 17, 2020), excluding chapter D and appendix C” and “Supplemental Information for the Yuma Ozone Marginal Non-Attainment Area State Implementation Plan Emission Inventory (dated June 30, 2021)” before the entry for “SIP Revision: Hayden Lead Nonattainment Area, excluding Appendix C”; and

b. Under the heading “Part D Elements and Plans for the Metropolitan Phoenix and Tucson Areas” by adding an entry for “MAG 2020 Eight-Hour Ozone Plan—Submittal of Marginal Area Requirements for the Maricopa Nonattainment Area (dated June 2020), excluding the chapter titled “Emissions Statements—CAA Section 182(a)(3)(B)” ” after the entry for “Reasonably Available Control Technology (RACT) Analysis, Negative Declaration and Rules Adoption”.

The additions read as follows:

§ 52.120 Identification of plan.

* * * * *

(e) * * *

Table 1—EPA-Approved Non-Regulatory and Quasi-Regulatory Measures
[Excluding certain resolutions and statutes, which are listed in tables 2 and 3, respectively] ¹
Name of SIP provision | Applicable geographic or nonattainment area or title/subject | State/submittal date | EPA approval date | Explanation
The State of Arizona Air Pollution Control Implementation Plan
* * * * * * *
Part D Elements and Plans (Other than for the Metropolitan Phoenix or Tucson Areas)
SIP Revision: Marginal Ozone Plan for the Yuma Nonattainment Area (dated December 17, 2020), excluding chapter D and appendix C | Yuma 2015 8-hour ozone nonattainment area | December 22, 2020 | April 5, 2022, [INSERT Federal Register CITATION] | Adopted by the Arizona Department of Environmental Quality on December 22, 2020.
Supplemental Information for the Yuma Ozone Marginal Non-Attainment Area State Implementation Plan Emission Inventory (dated June 30, 2021) | Yuma 2015 8-hour ozone nonattainment area | July 1, 2021 | April 5, 2022, [INSERT Federal Register CITATION] | Submitted as a supplement to the SIP Revision: Marginal Ozone Plan for the Yuma Nonattainment Area on July 1, 2021.
* * * * * * *
Part D Elements and Plans for the Metropolitan Phoenix and Tucson Areas
* * * * * * *
MAG 2020 Eight-Hour Ozone Plan—Submittal of Marginal Area Requirements for the Maricopa Nonattainment Area (dated June 2020), excluding the chapter titled “Emissions Statements—CAA Section 182(a)(3)(B)” | Phoenix-Mesa 2015 8-hour ozone nonattainment area | July 8, 2020 | April 5, 2022, [INSERT Federal Register CITATION] | Adopted by the Arizona Department of Environmental Quality on July 7, 2020.
* * * * * * *
¹ Table 1 is divided into three parts: Clean Air Act Section 110(a)(2) State Implementation Plan Elements (excluding Part D Elements and Plans), Part D Elements and Plans (other than for the Metropolitan Phoenix or Tucson Areas), and Part D Elements and Plans for the Metropolitan Phoenix and Tucson Areas.

* * * * *

[FR Doc. 2022-07056 Filed 4-4-22; 8:45 am]

BILLING CODE 6560-50-P